DEPARTMENT OF TRANSPORTATION

Federal Aviation Administration

14 CFR Part 39

[Docket No. FAA-2016-9356; Directorate Identifier 2016-CE-033-AD; Amendment 39-18701; AD 2016-22-12]

RIN 2120-AA64

Airworthiness Directives; Pilatus Aircraft Ltd. Airplanes

AGENCY: Federal Aviation Administration (FAA), DOT.

ACTION: Final rule; request for comments.

SUMMARY: We are adopting a new airworthiness directive (AD) for all Pilatus Aircraft Ltd. Models PC-6, PC-6-H1, PC-6-H2, PC-6/350, PC-6/350-H1, PC-6/350-H2, PC-6/A, PC-6/A-H1, PC-6/A-H2, PC-6/B-H2, PC-6/B1-H2, PC-6/B2-H2, PC-6/B2-H4, PC-6/C-H2, and PC-6/C1-H2 airplanes. This AD results from mandatory continuing airworthiness information (MCAI) issued by the aviation authority of another country to identify and correct an unsafe condition on an aviation product. The MCAI describes the unsafe condition as wear and cracks on the stabilizer-trim attachment and structural components. We are issuing this AD to require actions to address the unsafe condition on these products.

DATES: This AD is effective November 4, 2016.

The Director of the Federal Register approved the incorporation by reference of a certain publication listed in this AD as of November 4, 2016.

We must receive comments on this AD by December 19, 2016.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Pilatus Aircraft Ltd., Customer Liaison Manager, CH-6371 STANS, Switzerland; telephone: +41 41 619 3333; fax: +41 41 619 7311; Internet: http://www.pilatus-aircraft.com. You may view this referenced service information at the FAA, Small Airplane Directorate, 901 Locust, Kansas City, Missouri 64106. For information on the availability of this material at the FAA, call (816) 329-4148. It is also available on the Internet at http://www.regulations.gov by searching for locating Docket No. FAA-2016-9356.

Examining the AD Docket

You may examine the AD docket on the Internet at http://www.regulations.gov by searching for and locating Docket No. FAA-2016-9356; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Doug Rudolph, Aerospace Engineer, FAA, Small Airplane Directorate, 901 Locust, Room 301, Kansas City, Missouri 64106; telephone: (816) 329-4059; fax: (816) 329-4090; email: doug.rudolph@faa.gov

SUPPLEMENTARY INFORMATION:

Discussion

The European Aviation Safety Agency (EASA), which is the Technical Agent for the Member States of the European Community, has issued Emergency AD No. 2016-0202-E, dated October 7, 2016 (referred to after this as “the MCAI”), to correct an unsafe condition for the specified products. The MCAI states:

Wear and cracks on the stabilizer-trim attachment and relevant structural components have been reported on aeroplanes having accomplished Pilatus Service Bulletin (SB) 53-001 Revision 1, as previously required by FOCA AD HB-2005-263.

Subsequent investigation identified that slightly asymmetric installation and/or operational conditions may result in strong stabilizer vibration, causing crack initiation in the stabilizer-trim attachment fitting or connecting piece.

This condition, if not detected and corrected, may lead to a failure of the fitting or connecting piece, possibly resulting in disconnection of the horizontal stabilizer rear attachment, with consequent loss of control of the aeroplane.

To address this potential unsafe condition, Pilatus issued SB No. 53-003 (hereafter referred to as `the SB' in this AD) to provide inspection instructions.

For the reason described above, this AD requires visual and non destructive inspections of the affected stabilizer-trim attachment components and the related parts and structure to detect cracks, and, depending on findings, the replacement of the affected parts. This AD also provides additional requirements for installation of these parts.

You may examine the MCAI on the Internet at http://www.regulations.gov by searching for and locating Docket No. FAA-2016-9356.

Related Service Information Under 1 CFR Part 51

Pilatus Aircraft Ltd. has issued PC-6 Service Bulletin No. 53-003, Revision 1, dated October 13, 2016. The service information describes procedures for inspecting the stabilizer-trim attachment components and the related parts and structure to detect cracks and replacing all cracked parts. This service information is reasonably available because the interested parties have access to it through their normal course of business or by the means identified in the ADDRESSES section of this AD.

FAA's Determination and Requirements of This AD

This product has been approved by the aviation authority of another country, and is approved for operation in the United States. Pursuant to our bilateral agreement with this State of Design Authority, they have notified us of the unsafe condition described in the MCAI and service information referenced above. We are issuing this AD because we evaluated all information provided by the State of Design Authority and determined the unsafe condition exists and is likely to exist or develop on other products of the same type design.

FAA's Determination of the Effective Date

An unsafe condition exists that requires the immediate adoption of this AD. The FAA has found that the risk to the flying public justifies waiving notice and comment prior to adoption of this rule because failure of the stabilizer control system fitting or connecting piece could result in disconnection of the horizontal stabilizer rear attachment, with consequent loss of control. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2016-9356; Directorate Identifier 2016-CE-033-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 30 products of U.S. registry. We also estimate that it will take about 5 work-hours per product to comply with the basic inspection requirements of this AD. The average labor rate is $85 per work-hour.

Based on these figures, we estimate the cost of this AD on U.S. operators to be $12,750, or $425 per product.

In addition, we estimate that any necessary follow-on replacement actions will take about 6 work-hours and require parts costing $2,000, for a cost of $2,510 per product. We have no way of determining the number of products that may need these actions.

Paperwork Reduction Act

A federal agency may not conduct or sponsor, and a person is not required to respond to, nor shall a person be subject to penalty for failure to comply with a collection of information subject to the requirements of the Paperwork Reduction Act unless that collection of information displays a current valid OMB control number. The control number for the collection of information required by this AD is 2120-0056. The paperwork cost associated with this AD has been detailed in the Costs of Compliance section of this document and includes time for reviewing instructions, as well as completing and reviewing the collection of information. Therefore, all reporting associated with this AD is mandatory. Comments concerning the accuracy of this burden and suggestions for reducing the burden should be directed to the FAA at 800 Independence Ave., SW., Washington, DC 20591. ATTN: Information Collection Clearance Officer, AES-200.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2016-22-12 Pilatus Aircraft Ltd.: Amendment 39-18701; Docket No. FAA-2016-9356; Directorate Identifier 2016-CE-033-AD.

(a) Effective Date

This airworthiness directive (AD) becomes effective November 4, 2016.

(b) Affected ADs

None.

(c) Applicability

(1) This AD applies to PILATUS Models PC-6, PC-6-H1, PC-6-H2, PC-6/350, PC-6/350-H1, PC-6/350-H2, PC-6/A, PC-6/A-H1, PC-6/A-H2, PC-6/B-H2, PC-6/B1-H2, PC- 6/B2-H2, PC-6/B2-H4, PC-6/C-H2, and PC-6/C1-H2 airplanes, all manufacturer serial numbers, including MSN 2001 through 2092 (see Note 1 of paragraph c), certificated in any category.

Note 1 of paragraph (c): For MSN 2001-2092, these airplanes are also identified as Fairchild Republic Company PC-6 airplanes, Fairchild Industries PC-6 airplanes, Fairchild Heli Porter PC-6 airplanes, or Fairchild-Hiller Corporation PC-6 airplanes.

(2) For the purpose of this AD, an “affected part” is any stabilizer-trim attachment component and the related parts and structure, as identified in Pilatus Aircraft Ltd. (Pilatus) PC-6 Service Bulletin (SB) No. 53-003, Revision 1, dated October 13, 2016.

(d) Subject

Air Transport Association of America (ATA) Code 53: Fuselage.

(e) Reason

This AD results from mandatory continuing airworthiness information (MCAI) issued by the aviation authority of another country to identify and correct an unsafe condition on an aviation product. The MCAI describes the unsafe condition as wear and cracks on the stabilizer-trim attachment and structural components. This condition, if not corrected, could cause failure of the stabilizer control system fitting or connecting piece, which could result in disconnection of the horizontal stabilizer rear attachment with consequent loss of control.

(f) Actions and Compliance

Unless already done, do the following actions.

(1) For MSN 337 through 1005 and 2001 through 2092: Before further flight after November 4, 2016 (the effective date of this AD), do a visual inspection of the affected stabilizer-trim attachment and structural components following the Accomplishment Instructions in Pilatus PC-6 SB No. 53-003, Revision 1, dated October 13, 2016.

(2) For MSN 337 through 1005 and 2001 through 2092: Within the next 100 hours time-in-service after November 4, 2016 (the effective date of this AD), do a visual inspection and dye-penetrant or eddy current inspection of the affected stabilizer-trim attachment and structural components following the Accomplishment Instructions in Pilatus PC-6 SB No. 53-003, Revision 1, dated October 13, 2016.

(3) For MSN 337 through 1005 and 2001 through 2092: If any crack is found during any inspection required by paragraphs (f)(1) and (2) of this AD, before further flight, replace the affected part with a serviceable part following the Accomplishment Instructions in Pilatus PC-6 SB No. 53-003, Revision 1, dated October 13, 2016. For the purpose of this AD, a “serviceable part” is an affected part that is new, or has passed an inspection before installation following the Accomplishment Instructions in Pilatus PC-6 SB No. 53-003, Revision 1, dated October 13, 2016.

(4) For MSN 337 through 1005 and 2001 through 2092: Within 10 days after the inspections required by paragraphs (f)(1) and (2) of this AD or within the next 10 days after the effective date of this AD, whichever occurs later, report the results to Pilatus at the address in paragraph (j)(3) of this AD using the Report Form in Pilatus PC-6 SB No. 53-003, Revision 1, dated October 13, 2016.

(5) For all affected MSNs: As of November 4, 2016 (the effective date of this AD), an affected part listed in Pilatus PC-6 SB No. 53-003, Revision 1, dated October 13, 2016, may be installed provided it is a serviceable part. For the purpose of this AD, a “serviceable part” is an affected part that is new, or has passed an inspection before installation following the Accomplishment Instructions in Pilatus PC-6 SB No. 53-003, Revision 1, dated October 13, 2016.

(g) Credit for Actions Done Following Previous Service Information

This AD allows credit for the visual inspection required in paragraph (f)(1) of this AD if done before November 4, 2016 (the effective date of this AD), following Pilatus PC-6 SB No. 53-003, dated October 4, 2016. The dye-penetrant or eddy current inspection must still be done following Pilatus PC-6 SB No. 53-003, Revision 1, dated October 13, 2016.

(h) Other FAA AD Provisions

The following provisions also apply to this AD:

(1) Alternative Methods of Compliance (AMOCs): The Manager, Standards Office, FAA, has the authority to approve AMOCs for this AD, if requested using the procedures found in 14 CFR 39.19. Send information to ATTN: Doug Rudolph, Aerospace Engineer, FAA, Small Airplane Directorate, 901 Locust, Room 301, Kansas City, Missouri 64106; telephone: (816) 329-4059; fax: (816) 329-4090; email: doug.rudolph@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(i) Related Information

Refer to MCAI European Aviation Safety Agency (EASA) AD No. 2016-0202-E, dated October 7, 2016, and Pilatus Aircraft Ltd. PC-6 Service Bulletin No. 53-003, dated October 4, 2016. You may examine the MCAI on the Internet at http://www.regulations.gov by searching for and locating Docket No. FAA-2016-9356.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Pilatus Aircraft Ltd. PC-6 Service Bulletin No. 53-003, Revision 1, dated October 13, 2016.

(ii) Reserved.

(3) For Pilatus Aircraft Ltd. service information identified in this AD, contact Pilatus Aircraft Ltd., Customer Liaison Manager, CH-6371 STANS, Switzerland; telephone: +41 41 619 3333; fax: +41 41 619 7311; Internet: http://www.pilatus-aircraft.com.

(4) You may view this service information at the FAA, FAA, Small Airplane Directorate, 901 Locust, Kansas City, Missouri 64106. For information on the availability of this material at the FAA, call (816) 329-4148. It is also available on the Internet at http://www.regulations.gov by searching for locating Docket No. FAA-2016-9356.

(5) You may view this service information that is incorporated by reference at the National Archives and Records Administration (NARA). For information on the availability of this material at NARA, call 202-741-6030, or go to: http://www.archives.gov/federal-register/cfr/ibr-locations.html.

Issued in Kansas City, Missouri on October 27, 2016.
Pat Mullen,
Acting Manager, Small Airplane Directorate, Aircraft Certification Service.

[FR Doc. 2016-26431 Filed 11-3-16; 8:45 am]

BILLING CODE 4910-13-P